NUCLEAR REGULATORY COMMISSION

[Docket No. NRC-2013-0033]

Acceptability of Corrective Action Programs for Fuel Cycle Facilities

AGENCY: Nuclear Regulatory Commission.

ACTION: Draft NUREG; withdrawal and resolution of public comments.

SUMMARY: The U.S. Nuclear Regulatory Commission (NRC) is withdrawing draft NUREG-2154, “Acceptability of Corrective Action Programs for Fuel Cycle Facilities,” based on receipt and review of public comments. The draft NUREG provided guidance to NRC staff on how to determine whether a submittal for a Corrective Action Program (CAP), voluntarily submitted by fuel cycle facility licensees, was acceptable. The NRC staff has reviewed public comments received on draft NUREG-2154 and has decided to withdraw the draft NUREG and to proceed with the development and issuance of a draft Regulatory Guide (RG) to describe elements of an acceptable CAP for fuel cycle facilities.

DATES: Draft NUREG-2154 is withdrawn on July 30, 2013.

ADDRESSES: Please refer to Docket ID NRC-2013-0033 when contacting the NRC about the availability of information regarding this document. You may access information related to this document, which the NRC possesses and is publicly available, using any of the following methods:

• Federal Rulemaking Web site: Go to http://www.regulations.gov and search for Docket ID NRC-2013-0033. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Sabrina Atack, Office of Nuclear Material Safety and Safeguards, U.S. Nuclear Regulatory Commission, Washington, DC 20555-0001; telephone: 301-287-9075; email Sabrina.Atack@nrc.gov.

SUPPLEMENTARY INFORMATION: In response to the Commission's direction in the staff requirements memorandum (SRM) for SECY-10-0031 (ADAMS Accession No. ML102170054), the NRC staff revised Section 2.3.2. of the NRC Enforcement Policy to disposition Severity Level IV violations for fuel cycle facilities as non-cited violations if the NRC determines that the licensee's CAP is effective, the licensee enters the violation in its CAP, and other criteria are met, as delineated in Section 2.3.2 of the NRC Enforcement Policy. As part of its response to the SRM, the NRC staff also developed draft NUREG-2154, “Acceptability of Corrective Action Programs for Fuel Cycle Facilities” (ADAMS Accession No. ML13036A029). The intent of the draft NUREG was to provide guidance to NRC staff on how to determine, based on a licensee's CAP licensing submittal, that a CAP is acceptable. The NRC staff issued draft NUREG-2154 for public comment on February 20, 2013 (78 FR 11903).

By letter dated April 22, 2013 (ADAMS Accession No. ML13133A219), the Nuclear Energy Institute (NEI) provided comments on draft NUREG-2154. In the letter and its attachment, NEI suggested that the NRC consider converting the draft NUREG to a RG since RGs are typically the primary source of information for licensees and applicants filing for a license or requesting a licensing action. Further, during an April 11, 2013, public meeting held in Atlanta, GA (ADAMS Accession No. ML13113A251), members of industry identified that the burden of implementing a CAP could be eased if applicants and licensees were able to commit to a set of CAP requirements rather than undertake the process of submitting a written CAP for NRC review and approval. The comment resolution table that describes the NRC staff's resolution of the comments and recommendations related to draft NUREG-2154 is available for public review in ADAMS under Accession No. ML13158A143.

Based on the review of public comment submissions and feedback at public meetings, the NRC has decided to withdraw draft NUREG-2154 and to identify the elements of an acceptable fuel cycle facility CAP in a draft RG. The NRC staff has determined that a RG can effectively describe measures for establishing a CAP that is adequate to support the application of the provisions of Section 2.3.2 of the NRC Enforcement Policy (ADAMS Accession No. ML12340A295) by fuel cycle facilities. This approach will minimize the burden to licensees who wish to implement a CAP by streamlining the licensing actions associated with incorporating CAP commitments into the license. Licensees will be able to submit a simple license amendment request committing to comply with the RG and implementing documents established thereto rather than submitting a detailed CAP description for NRC review and approval. The draft RG, DG-3044, “Corrective Action Programs for Fuel Cycle Facilities,” will be issued for public comment in a forthcoming Federal Register Notice.

Proposed Action

By this action, the NRC is withdrawing draft NUREG-2154. The guidance contained in the draft NUREG will be reissued in the form of a draft regulatory guide (DG-3044, “Corrective Action Programs for Fuel Cycle Facilities”).

Dated at Rockville, Maryland, this 22nd day of July 2013.
For the Nuclear Regulatory Commission.
Michael X. Franovich,
Chief, Programmatic Oversight and Regional Support Branch, Division of Fuel Cycle Safety and Safeguards, Office of Nuclear Material Safety and Safeguards.

[FR Doc. 2013-18251 Filed 7-29-13; 8:45 am]

BILLING CODE 7590-01-P